DEPARTMENT OF THE INTERIOR

Bureau of Land Management

[LLNM920000 L13100000 FI0000]

Notice of Proposed Reinstatement of Terminated Oil and Gas Leases NMNM 110795, NMNM 110797, NMNM 110802

AGENCY: Bureau of Land Management, Interior.

ACTION: Notice of reinstatement of terminated oil and gas leases.

SUMMARY: Under the Class II provisions of Title IV, Public Law 97-451, the Bureau of Land Management received a petition for reinstatement of oil and gas leases NMNM 110795, NMNM 110797, and NMNM 110802 from the lessee, David Petroleum Corporation et al, for lands in Guadalupe County, New Mexico. The petition was filed on time and was accompanied by all the rentals due since the date the lease terminated under the law.

FOR FURTHER INFORMATION CONTACT: Margie Dupre, Bureau of Land Management, New Mexico State Office, P.O. Box 27115, Santa Fe, New Mexico 87502 or at (505) 954-2142.

SUPPLEMENTARY INFORMATION: No valid lease has been issued that affects the lands. The lessee agrees to new lease terms for rentals and royalties of $10 per acre or fraction thereof, per year, and 16⅔ percent, respectively. The lessee paid the required $500 administrative fee for the reinstatement of the leases and the $166 cost for publishing this Notice in the Federal Register. The lessee met all the requirements for reinstatement of the leases as set out in Section 31 (d) and (e) of the Mineral Leasing Act of 1920 (30 U.S.C. 188). The BLM is proposing to reinstate leases NMNM 110795, NMNM 110797, and NMNM 110802 effective back to the date of termination, September 1, 2009, under the original terms and conditions of the lease except for the increased rental and royalty rates cited above.

Margie Dupre,
Land Law Examiner, Fluids Adjudication Team.

[FR Doc. 2010-2852 Filed 2-9-10; 8:45 am]

BILLING CODE 4310-FB-P